SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before May 20, 2024.

ADDRESSES: Email all comments to: Teresa Lopez, Office of Financial Program Operations, Small Business Administration, at teresa.lopez@sba.gov.

FOR FURTHER INFORMATION CONTACT: Adrienne Grierson, Deputy Director Office of Financial Program Operations, 202-205-6573, adrienne.grierson@sba.gov or Curtis B. Rich, Agency Clearance Officer, 202-205-7030, curtis.rich@sba.gov.

SUPPLEMENTARY INFORMATION: SBA Form 1149, Lenders Transcript of Account is completed by Lenders when requesting SBA to purchase the guaranty portion of a loan. At that time, Lenders are required to supply the Agency with a certified transcript of the loan account. SBA Form 1149 is a uniform and convenient means for lenders to report and certify loan accounts to purchase by SBA. The Agency uses the information to determine date of loan default and whether Lender disbursed and serviced the loan according to Loan Guaranty agreement.

SBA has determined that the current information does not adequately meet its needs at the time of guaranty purchase review since the form does not collect enough details about the type of loan payments. Accordingly, SBA changed the column titled “DEFERMENT” to “TYPE OF PAYMENT.”

SBA also plans to revise and clarify the instructions for the Form 1149 to ensure the lenders will be aware of the information to be reported. Lastly, the Form 1149 may undergo additional formatting changes to make it easier to address mandatory Federal government 508 accessibility compliance.

This non-substantive change will likely not have a significant impact on the burden. SBA is requesting a 3-year renewal.

Solicitation of Public Comments

SBA is requesting comments on (a) Whether the collection of information is necessary for the agency to properly perform its functions; (b) whether the burden estimates are accurate; (c) whether there are ways to minimize the burden, including using automated techniques or other forms of information technology; and (d) whether there are ways to enhance the quality, utility, and clarity of the information.

Summary of Information Collection

Title: Lenders Transcript of Account.

Form Numbers: SBA Form 1149.

OMB Control Number: 3245-0132.

Description of Respondents: SBA Lenders.

Estimated Number of Respondents: 15,000.

Frequency of Response per Respondent: 1.

Total Estimated Annual Responses: 15,000.

Total Estimated Annual Hour Burden: 2 hours per respondent, for a total of 30,000 hours.

Curtis Rich,
Agency Clearance Officer.

[FR Doc. 2024-05841 Filed 3-19-24; 8:45 am]

BILLING CODE 8026-09-P